DEPARTMENT OF TRANSPORTATION

Federal Aviation Administration

[Summary Notice No. PE-2003-38]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains dispositions of certain petitions previously received, and corrections. The purpose of this notice is to improve the public's awareness of, and participation in, this aspect of FAA's regulatory activities.

FOR FURTHER INFORMATION CONTACT: Denise Emrick (202) 267-5174, Office of Rulemaking (ARM-1), Federal Aviation Administration, 800 Independence Avenue, SW., Washington, DC 20591.

This notice is published pursuant to 14 CFR 11.85 and 11.91.

Issued in Washington, DC, on June 24, 2003.
Donald P. Byrne,
Assistant Chief Counsel for Regulations.

Dispositions of Petitions

Docket No.: FAA-2000-8425.

Petitioner: Aero Sports Connection.

Section of 14 CFR Affected: 14 CFR 103.1(a) and (e).

Description of Relief Sought/Disposition: To permit individuals authorized by Aero Sports Connection to give instruction in two-place powered ultralight vehicles that have a maximum empty weight of 496 pounds, have a maximum fuel capacity of 10 U.S. gallons, are not capable of more than 75 knots calibrated airspeed at full power in level flight, and have a power-off stall speed that does not exceed 35 knots calibrated airspeed.

Grant, 05/30/2003, Exemption No. 6080F.

Docket No.: FAA-2001-8870.

Petitioner: Massachusetts Institute of Technology.

Section of 14 CFR Affected: 14 CFR 91.319(c).

Description of Relief Sought/Disposition: To permit Massachusetts Institute of Technology to operate certain single-engine and multiengine aircraft certified in the experimental category, over densely populated areas or in congested airways.

Grant, 05/28/2003, Exemption No. 5210G.

Docket No.: FAA-2003-14242.

Petitioner: World Airways, Inc.

Section of 14 CFR Affected: 14 CFR 121.434(c)(1)(ii).

Description of Relief Sought/Disposition: To permit World Airways, Inc. to substitute a qualified and authorized check airman or aircrew program designee for an FAA inspector to observe a qualifying pilot in command who is completing initial or upgrade training specified in § 121.424 during at least one flight leg that includes a takeoff and a landing.

Grant, 05/22/2003, Exemption No. 8058.

Docket No.: FAA-2003-15202.

Petitioner: Moody Aviation.

Section of 14 CFR Affected: 14 CFR 135.251, 135.255, and 135.353, and appendices I and J to part 121.

Description of Relief Sought/Disposition: To permit Moody Aviation to conduct local sightseeing flights at the Elizabethton Municipal Airport for sightseeing flights on May 31, 2003, for compensation or hire, without complying with certain anti-drug and alcohol misuse prevention requirements of part 135.

Grant, 05/27/2003, Exemption No. 8059.

Docket No.: FAA-2003-15176.

Petitioner: Wings of Mercy.

Section of 14 CFR Affected: 14 CFR 135.251, 135.255, and 135.353, and appendices I and J to part 121.

Description of Relief Sought/Disposition: To permit Wings of Mercy to conduct local sightseeing flights at the Tulip City Airport on June 21, 2003, for compensation or hire, without complying with certain anti-drug and alcohol misuse prevention requirements of part 135.

Grant, 05/30/2003, Exemption No. 8063.

Docket No.: FAA-2003-15276.

Petitioner: Mr. Paul Diestelkamp.

Section of 14 CFR Affected: 14 CFR 61.103.

Description of Relief Sought/Disposition: To permit Mr. Diestelkamp to apply for a private pilot certificate before reaching 17 years of age.

Denial, 06/09/2003, Exemption No. 8069

Docket No.: FAA-2001-9352.

Petitioner: International Aerobatic Club.

Section of 14 CFR Affected: 14 CFR 91.151(a)(1).

Description of Relief Sought/Disposition: To permit the International Aerobatic Club (IAC) and their members participating in IAC-sponsored and/or-sanctioned aerobatic competitions conducted in accordance with IAC Official Contest Rules, to begin flight in an airplane, considering local conditions affecting fuel consumption, when there is enough fuel aboard the aircraft to take off, complete the planned flight maneuvers, and land at the same airport with enough fuel to fly for an additional 10 minutes at normal cruising speed.

Grant, 05/22/2003, Exemption No. 5745E.

[FR Doc. 03-16461 Filed 6-27-03; 8:45 am]

BILLING CODE 4910-13-P